INTERNATIONAL TRADE COMMISSION

[Investigation Nos. 701-TA-402 and 731-TA-892 and 893 (Review)]

Honey From Argentina and China

Determinations

On the basis of the record ¹ developed in the subject five-year reviews, the United States International Trade Commission (Commission) determines, pursuant to section 751(c) of the Tariff Act of 1930 (19 U.S.C. 1675(c)), that revocation of the countervailing duty order on honey from Argentina and the antidumping duty orders on honey from Argentina and China would be likely to lead to continuation or recurrence of material injury to an industry in the United States within a reasonably foreseeable time.

¹ The record is defined in sec. 207.2(f) of the Commission's Rules of Practice and Procedure (19 CFR 207.2(f)).

Background

The Commission instituted these reviews on November 1, 2006 (71 F.R. 64292) and determined on February 5, 2007 that it would conduct expedited reviews (72 F.R. 6745, February 13, 2007). The Commission transmitted its determinations in these reviews to the Secretary of Commerce on June 29, 2007. The views of the Commission are contained in USITC Publication 3929 (June 2007), entitled Honey From Argentina and China: Investigation Nos. 701-TA-402 and 731-TA-892 and 893 (Review).

By order of the Commission.
Issued: July 11, 2007.
Marilyn R. Abbott,
Secretary to the Commission.

[FR Doc. E7-13838 Filed 7-17-07; 8:45 am]

BILLING CODE 7020-02-P